DEPARTMENT OF AGRICULTURE

Submission for OMB Review; Comment Request

February 12, 2019.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by March 21, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Farm Technology Survey.

OMB Control Number: 0535-NEW.

Summary of Collection: The primary function of the National Agricultural Statistics Service (NASS) is to prepare and issue current official State and national estimates of crop and livestock production value, disposition, and resource use. This project will collect data from a sample of farmers and ranchers with land operated in the State of Hawaii. The reference period will be within one year of the survey date. The survey will be conducted annually if funding allows. General authority for these data collection activities is granted under U.S. Code Title 7, Section 2204.

Need and Use of the Information: The purpose of this survey is to collect data related to what types of technologies are used on farms during the past year. These technologies will include both physical and non-physical types such as tablets, applications, automatic sensors, etc. The collected data will be used by the State Department of Agriculture and Land Grant University to determine the need for providing assistance to farmers and ranchers to fulfill their technology needs, indicated by the data.

Description of Respondents: Business or other for-profit; Farms.

Number of Respondents: 2,000.

Frequency of Responses: Reporting: Annually.

Total Burden Hours: 557.

Kimble Brown,
Departmental Information Collection Clearance Officer.

[FR Doc. 2019-02594 Filed 2-15-19; 8:45 am]

BILLING CODE 3410-20-P